OFFICE OF MANAGEMENT AND BUDGET

[Docket No. OMB-2023-0004]

2 CFR Parts 184 and 200

Guidance for Grants and Agreements

AGENCY: Office of Federal Financial Management, Office of Management and Budget.

ACTION: Notification of proposed guidance; correction.

SUMMARY: This document corrects the Action caption to a notification of proposed guidance published in the Federal Register of February 9, 2023. The proposed revisions to the OMB Guidance for Grants and Agreements were limited in scope to support implementation of the Build America, Buy America Act provisions of the Infrastructure Investment and Jobs Act; and to clarify existing requirements. The notification was incorrectly categorized in the Action caption as a proposed rule. This correction clarifies that the notification of proposed guidance is not a proposed rule.

DATES: March 3, 2023.

FOR FURTHER INFORMATION CONTACT: Please contact Dede Rutberg, Office of Management and Budget, 202-881-7359, or via email (preferred) at Diana.s.rutberg@omb.eop.gov.

SUPPLEMENTARY INFORMATION:

Correction

In FR Doc. 2023-02617, appearing on page 8374 in the Federal Register issue of Thursday, February 9, 2023, 88 FR 8374, make the following correction to the Action caption. On page 8374, correct the Action caption in the first column to read: “ACTION: Notification of proposed guidance.” The Action caption in the notice published on February 9, 2023 incorrectly included the term “Proposed rule” before “notification of proposed guidance.” The Office of Management and Budget (OMB) guidance “published in subtitle A [of 2 CFR],” which OMB proposes to modify, “is guidance and not regulation.” 2 CFR 1.105(b). The publication “of the OMB guidance in the CFR does not change its nature — it is guidance and not regulation.” Id.

Deidre A. Harrison,
Deputy Controller, Office of Federal Financial Management.

[FR Doc. 2023-04746 Filed 3-8-23; 8:45 am]

BILLING CODE 3110-01-P